DEPARTMENT OF COMMERCE

International Trade Administration

Notice of Opportunity to Apply for Membership on the U.S. Automotive Parts Advisory Committee (APAC)

SUMMARY: The Department of Commerce is currently seeking applications for membership on the APAC. The purpose of the APAC is to advise Department of Commerce officials on issues related to U.S.-made automotive parts and accessories sales in Japanese and other Asian markets. The APAC's functions include: (1) reporting to the Secretary of Commerce on barriers to sales of U.S.-made automotive parts and accessories in Japanese and other Asian markets; (2) reviewing and considering data collected on sales of U.S.-made automotive parts and accessories in Japanese and other Asian markets; (3) advising the Secretary of Commerce during consultations with other governments on issues concerning sales of U.S.-made automotive parts in Japanese and other Asian markets; (4) assisting in establishing priorities for the initiative by the Secretary of Commerce to increase the sale of U.S.-made automotive parts and accessories to Japanese markets, and to otherwise provide assistance and direction to the Secretary of Commerce in carrying out the intent of that initiative; and (5) assisting the Secretary in reporting to Congress by submitting an annual written report to the Secretary on the sale of U.S.-made automotive parts in Japanese and other Asian markets, as well as any other issues with respect to which the Committee provides advice pursuant to the Fair Trade in Automotive Parts Act of 1998, § 3803 and 3804 of Public Law 105-261.

FOR FURTHER INFORMATION CONTACT: Henry P. Misisco, U.S. Department of Commerce, International Trade Administration, Trade Development, Office of Automotive Affairs, (202) 482-0554.

SUPPLEMENTARY INFORMATION: The APAC was originally established pursuant to the Fair Trade in Auto Parts Act of 1988, sections 2121 to 2125 of Public Law 100-418, to advise the Secretary of Commerce on issues related to sales of U.S.-made auto parts to Japanese markets. The Committee was reauthorized by the Fair Trade in Auto Parts Act of 1998, sections 3803 and 3804 of Public Law 105-261, to advise the Secretary of Commerce on issues related to sales of U.S.-made auto parts in Japanese and other Asian markets. The APAC functions as an advisory committee in accordance with the Federal Advisory Committee Act, 15 U.S.C. App. 2 and Department of Commerce policies on advisory committees.

The Office of Automotive Affairs is accepting applications for private sector members to begin serving after the Committee's charter is renewed. An existing member may be reappointed only if he or she has reapplied and has been accepted through the normal recruitment and selection process. An existing member may reapply for membership by submitting a letter requesting that he or she be considered for a membership position, and any supplemental information necessary to update his or her previous application for membership. Private sector representatives will be appointed to serve until the APAC charter expires in 2003. Members will be selected who will best carry out the objectives of the Fair Trade in Automotive Parts Act of 1998. Each APAC member must also serve as the representative of a “U.S. entity” engaged in the manufacture of automotive parts or the provision of a related service (including retailing and other distribution services), or an association of such entities. A U.S. entity is a firm incorporated in the United States (or an unincorporated U.S. firm with its principal place of business in the United States) that is controlled by U.S. citizens or by another U.S. entity. An entity is not a U.S. entity if 50 percent plus one share of its stock (if a corporation, or a similar ownership interest of an unincorporated entity) is controlled, directly or indirectly, by non-U.S. citizens or non-U.S. entities.

Secondary selection criteria will ensure that the committee has a balanced representation of the auto parts industry in terms of point of view, demographics, geography and company size. APAC members are selected on the basis of their experience and knowledge of conditions and problems in automotive parts markets. Members will serve at the discretion of the Secretary.

Private sector members will serve in a representative capacity presenting the views and interests of the particular automotive sector in which they operate. Private sector members are not special government employees, and will receive no compensation for their participation in APAC activities. Members participating in APAC meetings and events will be responsible for their travel, living and other personal expenses. Meetings are held approximately four times a year, usually in Washington, DC. The next APAC meeting date has not yet been determined.

To be considered for membership, please provide the following: name and title of the individual requesting consideration; a letter of recommendation containing a brief statement of why each candidate should be considered for membership on the APAC that includes the individual's export experience, along with a personal resume; a statement that the applicant is a not a registered foreign agent under the Foreign Agents Registration Act of 1938, as amended; the company's product or service line and major markets; and the size and ownership of the company. All APAC members must obtain a U.S. Government security clearance.

Dated: November 17, 2000.
Thomas Sobotta,
Acting Director, Office of Automotive Affairs.

[FR Doc. 00-30585 Filed 11-30-00; 8:45 am]

BILLING CODE 3510-DR-P